DEPARTMENT OF JUSTICE

Notice of Lodging of Consent Decree Under the Comprehensive Environmental Response, Compensation, and Liability Act

Notice is hereby given that on February 22, 2012, a proposed Partial Consent Decree in United States et al. v. Seachrome Corp. et al, Civil Action No. 2:02-cv-4565 ABC (RCx) (“Seachrome”) was lodged with the United States District Court for the Central District of California.

In Seachrome, the United States of America (“United States”), on behalf of the Administrator of the United States Environmental Protection Agency (“EPA”), and the California Department of Toxic Substances Control (“Department”), filed a complaint pursuant to Section 107 of the Comprehensive Environmental Response, Compensation, and Liability Act of 1980, as amended (“CERCLA”), 42 U.S.C. 9607, seeking reimbursement of response costs incurred or to be incurred for response actions taken in connection with the release or threatened release of hazardous substances at the South El Monte Operable Unit of the San Gabriel Valley Area 1 Superfund Site in South El Monte, Los Angeles County, California (the “South El Monte O.U.”).

Under the proposed Partial Consent Decree, two potentially responsible parties (“PRPs”) with respect to the South El Monte O.U. will pay a total of $1.7 million plus interest. The PRPs are Linderman Living Trust A and Rush Street Properties, LLC. The settlement amount is based on the parties' ability to pay. In exchange for the ability to pay payments, the plaintiffs covenant not to sue the ability to pay settling defendants under Section 106 or 107 of CERCLA with respect to the South El Monte O.U.

The Department of Justice will receive for a period of thirty (30) days from the date of this publication comments relating to the proposed Consent Decree. Comments should be addressed to the Assistant Attorney General, Environment and Natural Resources Division, and either emailed to pubcomment-ees.enrd@usdoj.gov or mailed to P.O. Box 7611, U.S. Department of Justice, Washington, DC 20044-7611, and should refer to this case: United States et al. v. Seachrome Corp. et al., Civil Action No. 2:02-cv-4565 (RCx), D.J. Ref. 90-11-2-09121/5.

During the public comment period, the Consent Decree may be examined on the following Department of Justice Web site, http://www.usdoj.gov/enrd/Consent_Decrees.html. A copy of the proposed Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation no. (202) 514-5271. In requesting a copy from the Consent Decree Library, please enclose a check payable to the “U.S. Treasury” or, if by email or fax, forward a check in that amount to the Consent Decree Library at the stated address, in the following amount (25 cents per page reproduction cost): $7.50 for the Partial Consent Decree (without attachments).

Henry S. Friedman,
Assistant Section Chief, Environmental Enforcement Section, Environment and Natural Resources Division.

[FR Doc. 2012-4866 Filed 2-29-12; 8:45 am]

BILLING CODE 4410-15-P